DEPARTMENT OF ENERGY

Federal Energy Regulatory Commission

Combined Notice of Filings #1

Take notice that the Commission received the following exempt wholesale generator filings:

Docket Numbers: EG11-117-000.

Applicants: Louisiana Generating LLC.

Description: Louisiana Generating LLC's Amendment of Notice of Self-Certification of Exempt Wholesale Generator Status.

Filed Date: 10/13/2011.

Accession Number: 20111013-5167.

Comment Date: 5 p.m. Eastern Time on Thursday, November 03, 2011.

Docket Numbers: EG12-6-000.

Applicants: Coram California Development, L.P.

Description: Coram California Development, L.P. Notice of Self-Certification of Exempt Wholesale Generator Status.

Filed Date: 10/28/2011.

Accession Number: 20111028-5115.

Comment Date: 5 p.m. Eastern Time on Friday, November 18, 2011.

Take notice that the Commission received the following electric rate filings:

Docket Numbers: ER11-3384-002.

Applicants: PJM Interconnection, L.L.C.

Description: PJM Interconnection, L.L.C. submits tariff filing per 35: Compliance filing in ER11-3384 per Order dated October 6, 2011 to be effective 4/16/2011.

Filed Date: 10/28/2011.

Accession Number: 20111028-5084.

Comment Date: 5 p.m. Eastern Time on Friday, November 18, 2011.

Docket Numbers: ER11-4160-000.

Applicants: ITC Midwest LLC.

Description: ITC Midwest LLC submits tariff filing per 35.19a(b): Filing of a Refund Report to be effective N/A.

Filed Date: 10/28/2011.

Accession Number: 20111028-5119.

Comment Date: 5 p.m. Eastern Time on Friday, November 18, 2011.

Docket Numbers: ER11-4374-001.

Applicants: Portland General Electric Company.

Description: Portland General Electric Company submits tariff filing per 35.17(b): Volume 12 Amendment Filing to be effective 10/24/2011.

Filed Date: 10/28/2011.

Accession Number: 20111028-5101.

Comment Date: 5 p.m. Eastern Time on Friday, November 18, 2011.

Docket Numbers: ER12-229-000.

Applicants: ISO New England Inc.

Description: ISO New England Inc. submits tariff filing per 35.13(a)(2)(iii: OATT Related to the Capacity Cost Rate Component to be effective 1/1/2012.

Filed Date: 10/28/2011.

Accession Number: 20111028-5053.

Comment Date: 5 p.m. Eastern Time on Friday, November 18, 2011.

Docket Numbers: ER12-230-000.

Applicants: Wisconsin Public Service Corporation.

Description: Wisconsin Public Service Corporation submits tariff filing per 35.15: Cancellation of Manitowoc Service Agreement under the W-2A Tariff to be effective 1/1/2012.

Filed Date: 10/28/2011.

Accession Number: 20111028-5054.

Comment Date: 5 p.m. Eastern Time on Friday, November 18, 2011.

Docket Numbers: ER12-231-000.

Applicants: Wisconsin Public Service Corporation.

Description: Wisconsin Public Service Corporation submits tariff filing per 35.13(a)(2)(iii: Revised UPPCO Service Agreement Under W-2A Tariff to be effective 1/1/2012.

Filed Date: 10/28/2011.

Accession Number: 20111028-5055.

Comment Date: 5 p.m. Eastern Time on Friday, November 18, 2011.

Docket Numbers: ER12-232-000.

Applicants: Northern States Power Company, a Wisconsin corporation

Description: Northern States Power Company, a Wisconsin corporation submits tariff filing per 35.13(a)(2)(iii: 2011_10-28_NSPW_DPC E&P Agrmt-314 to be effective 7/30/2010.

Filed Date: 10/28/2011.

Accession Number: 20111028-5087.

Comment Date: 5 p.m. Eastern Time on Friday, November 18, 2011.

Docket Numbers: ER12-232-001.

Applicants: Northern States Power Company, a Wisconsin corporation

Description: Northern States Power Company, a Wisconsin corporation submits tariff filing per 35.17(b): 2011_10-28_NSPW-DPC E&P Agrmt_314-2 to be effective 3/31/2011.

Filed Date: 10/28/2011.

Accession Number: 20111028-5178.

Comment Date: 5 p.m. Eastern Time on Friday, November 18, 2011.

Docket Numbers: ER12-233-000.

Applicants: Wolverine Power Supply Cooperative, Inc.

Description: Wolverine Power Supply Cooperative, Inc. submits tariff filing per 35.13(a)(2)(iii: Amended and Restated Wholesale Power Contract with Midwest Energy Cooperative to be effective 12/31/9998.

Filed Date: 10/28/2011.

Accession Number: 20111028-5118.

Comment Date: 5 p.m. Eastern Time on Friday, November 18, 2011.

Docket Numbers: ER12-234-000.

Applicants: Pacific Gas and Electric Company.

Description: Pacific Gas and Electric Company submits tariff filing per 35.15: Notices of Termination for the Cantua and Giffen E&P Agreements to be effective 9/26/2011.

Filed Date: 10/28/2011.

Accession Number: 20111028-5128.

Comment Date: 5 p.m. Eastern Time on Friday, November 18, 2011.

Docket Numbers: ER12-235-000.

Applicants: Southwest Power Pool, Inc.

Description: Southwest Power Pool, Inc. submits tariff filing per 35.13(a)(2)(iii: Revisions to Attachment AE Locational Imbalance Price Corrections to be effective 12/28/2011.

Filed Date: 10/28/2011.

Accession Number: 20111028-5129.

Comment Date: 5 p.m. Eastern Time on Friday, November 18, 2011.

Docket Numbers: ER12-236-000.

Applicants: Southern California Edison Company.

Description: Southern California Edison Company submits tariff filing per 35.13(a)(1): 2012 TRBAA Update Filing to be effective 1/1/2012.

Filed Date: 10/28/2011

Accession Number: 20111028-5131.

Comment Date: 5 p.m. Eastern Time on Friday, November 18, 2011.

Docket Numbers: ER12-237-000.

Applicants: PJM Interconnection, L.L.C.

Description: PJM Interconnection, L.L.C. submits tariff filing per 35.13(a)(2)(iii: Revisions to PJM's OA Section 7.5.1 re the conduct of the Finance Committee to be effective 1/1/2012.

Filed Date: 10/28/2011.

Accession Number: 20111028-5142.

Comment Date: 5 p.m. Eastern Time on Friday, November 18, 2011.

Docket Numbers: ER12-238-000.

Applicants: PPL Energy Supply, LLC.

Description: PPL Energy Supply, LLC submits tariff filing per 35.15: Cancellation of October 24, 2011 Filing to be effective 10/28/2011.

Filed Date: 10/28/2011.

Accession Number: 20111028-5148.

Comment Date: 5 p.m. Eastern Time on Friday, November 18, 2011.

Docket Numbers: ER12-239-000.

Applicants: Southern California Edison Company.

Description: Abandonment of the Arizona Segment of DPV2 Filing of Southern California Edison Company.

Filed Date: 10/28/2011.

Accession Number: 20111028-5153.

Comment Date: 5 p.m. Eastern Time on Friday, November 18, 2011.

Docket Numbers: ER12-240-000.

Applicants: PPL Energy Supply, LLC.

Description: PPL Energy Supply, LLC submits tariff filing per 35.12: Market-Based Rate Application of PPL Energy Supply, LLC to be effective 11/29/2011.

Filed Date: 10/28/2011.

Accession Number: 20111028-5167.

Comment Date: 5 p.m. Eastern Time on Friday, November 18, 2011.

Docket Numbers: ER12-241-000.

Applicants: PJM Interconnection, L.L.C.

Description: Report of PJM Interconnection, L.L.C. PJM submits for filing the initial allocation of Financial Transmission Rights for Duke Energy Ohio and Duke Energy Kentucky for period January 1, 2012 through May 31, 2012.

Filed Date: 10/28/2011.

Accession Number: 20111028-5172.

Comment Date: 5 p.m. Eastern Time on Friday, November 18, 2011.

Docket Numbers: ER12-242-000.

Applicants: MidAmerican Energy Company, Midwest Independent Transmission System Operator, Inc.

Description: MidAmerican Energy Company submits tariff filing per 35.13(a)(2)(iii: 10-28-11 MidAmerican Attachment O to be effective 1/1/2012.

Filed Date: 10/28/2011.

Accession Number: 20111028-5177.

Comment Date: 5 p.m. Eastern Time on Friday, November 18, 2011.

Take notice that the Commission received the following land acquisition reports:

Docket Numbers: LA11-3-000.

Applicants: Niagara Generation, LLC.

Description: Land Acquisition Report (3Q 2011).

Filed Date: 10/28/2011.

Accession Number: 20111028-5074.

Comment Date: 5 p.m. Eastern Time on Friday, November 18, 2011.

Docket Numbers: LA11-3-000.

Applicants: Spring Canyon Energy LLC, Judith Gap Energy LLC, Invenergy TN LLC, Wolverine Creek Energy LLC, Grays Harbor Energy LLC, Forward Energy LLC, Grand Ridge Energy LLC, Willow Creek Energy LLC, Sheldon Energy LLC, Hardee Power Partners Limited, Spindle Hill Energy LLC, Invenergy Cannon Falls, LLC, Beech Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC.

Description: Generation Site Report Third Quarter 2011 of Spring Canyon Energy LLC, et al.

Filed Date: 10/28/2011.

Accession Number: 20111028-5109.

Comment Date: 5 p.m. Eastern Time on Friday, November 18, 2011.

Docket Numbers: LA11-3-000.

Applicants: High Prairie Wind Farm II, LLC, Lost Lakes Wind Farm LLC, Pioneer Prairie Wind Farm I, LLC, Rail Splitter Wind Farm, LLC.

Description: Land Acquisition Report of High Prairie Wind Farm II, LLC, et al.

Filed Date: 10/28/2011.

Accession Number: 20111028-5146.

Comment Date: 5 p.m. Eastern Time on Friday, November 18, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2011.
Nathaniel J. Davis, Sr.,
Deputy Secretary.

[FR Doc. 2011-28871 Filed 11-7-11; 8:45 am]

BILLING CODE 6717-01-P